DEPARTMENT OF HEALTH AND HUMAN SERVICES

Centers for Disease Control and Prevention

Disease, Disability, and Injury Prevention and Control Special Emphasis Panel (SEP)—CK19-002, Quantifying Contact Rates and Mixing Patterns in Workers in Non-healthcare Work Settings in the United States; CK19-004, Study To Assess the Risk of Blood Borne Transmission of Classic Forms of Creutzfeldt-Jakob Disease (CJD); and CK17-005SUPP, Vector-Borne Disease Regional Centers of Excellence

Amended Notice of Meeting

Notice is hereby given of a change in the meeting of the Disease, Disability, and Injury Prevention and Control Special Emphasis Panel (SEP); CK19-002, Quantifying Contact Rates and Mixing Patterns in Workers in Non-healthcare Work Settings in the United States; CK19-004, Study To Assess the Risk of Blood Borne Transmission of Classic Forms of Creutzfeldt-Jakob Disease (CJD); and CK17-005SUPP, Vector-Borne Disease Regional Centers of Excellence; May 7, 2019; 10:00 a.m.—5:00 p.m., (EDT) which was published in the Federal Register on March 15, 2019, Volume 84, Number 51, pages 9523.

The meeting is being amended to remove CK17-005SUPP, Vector-Borne Disease Regional Centers of Excellence. The meeting is closed to the public.

FOR FURTHER INFORMATION CONTACT: Gregory Anderson, M.S., M.P.H., Scientific Review Officer, CDC, 1600 Clifton Road NE, Mailstop E60, Atlanta, Georgia 30329, (404) 718-8833, gca5@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-07265 Filed 4-11-19; 8:45 am]

BILLING CODE 4163-18-P